DEPARTMENT OF ENERGY

Federal Energy Regulatory Commission

[Docket No. MT00-12-000]

Mid Louisiana Gas Company; Notice of Proposed Changes in FERC Gas Tariff

July 26, 2000.

Take notice that on July 20, 2000, Mid Louisiana Gas Company (MIDLA) tendered for filing as part of its FERC Gas Tariff, Third Revised Volume No. 1, the following tariff sheets:

Sixth Revised Sheet No. 130

Ninth Revised Sheet No. 131

Second Revised Sheet No. 132

MIDLA states that the primary purpose of the filing Revised Tariff sheets is to update its tariff to reflect recent changes in shared personnel and facilities, and to reflect minor housekeeping changes for clarification of MIDLA's FERC Gas Tariff.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19317 Filed 7-31-00; 8:45 am]

BILLING CODE 6717-01-M